DEPARTMENT OF LABOR

Employment and Training Administration

Investigations Regarding Eligibility to Apply for Worker Adjustment Assistance

Petitions have been filed with the Secretary of Labor under Section 221 (a) of the Trade Act of 1974 (“the Act”) and are identified in the Appendix to this notice. Upon receipt of these petitions, the Director of the Office of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than October 22, 2012.

Interested persons are invited to submit written comments regarding the subject matter of the investigations to the Director, Office of Trade Adjustment Assistance, at the address shown below, not later than October 22, 2012.

The petitions filed in this case are available for inspection at the Office of the Director, Office of Trade Adjustment Assistance, Employment and Training Administration, U.S. Department of Labor, Room N-5428, 200 Constitution Avenue NW., Washington, DC 20210.

Signed at Washington, DC, this 3rd day of October 2012.
Elliott S. Kushner,
Certifying Officer, Office of Trade Adjustment Assistance.

APPENDIX
[31 TAA petitions instituted between 9/24/12 and 9/28/12]
TA-W | Subject firm (petitioners) | Location | Date of institution | Date of petition
81986 | Genzyme, A Sanofi Company, Network Operations Center (NOCC IT Department) (State/One-Stop) | Framingham, MA | 09/24/12 | 09/20/12
81987 | Cincinnati Bell, RSC/BSC and Order Support Representatives (Union) | Norwood, Lebanon, and Cincinnati, OH | 09/24/12 | 09/19/12
81988 | Georgia-Pacific Consumer Products LP (Union) | Green Bay, WI | 09/24/12 | 09/05/12
81989 | Siemens Energy, Inc. (State/One-Stop) | Fort Madison, IA | 09/24/12 | 09/20/12
81990 | American Airlines (Union) | Tulsa, OK | 09/24/12 | 09/19/12
81991 | Delphi Electronics & Safety (Company) | Kokomo, IN | 09/24/12 | 09/20/12
81992 | Cox Media Group Ohio, Dayton Daily News (Workers) | Dayton, OH | 09/24/12 | 09/20/12
81993 | Experian (State/One-Stop) | Schaumburg, IL | 09/24/12 | 09/20/12
81994 | Ahlstrom West Carrollton LLC (Company) | West Carrollton, OH | 09/24/12 | 09/20/12
81995 | Bank of America—Account Specialists (Workers) | Seattle, WA | 09/24/12 | 09/19/12
81996 | Novartis Pharmaceutical Corporation (State/One-Stop) | Schaumberg, IL | 09/24/12 | 08/27/12
81997 | TE Connectivity (Formerly Tyco) (State/One-Stop) | Shakopee, MN | 09/24/12 | 09/21/12
81998 | APC Workforce Solutions II, LLC (dba ZeroChaos) (State/One-Stop) | Quincy, MA | 09/24/12 | 09/21/12
81999 | Ferrara Candy Company (formerly Farley's & Sathers) (State/One-Stop) | Round Lake, MN | 09/24/12 | 09/21/12
82000 | Parker Hannifin Corporation (State/One-Stop) | Beaufort, SC | 09/24/12 | 09/24/12
82001 | Royal Appliance Manufacturing Company dba TTI Floor Care N. America & Subsi (Company) | Canton, OH | 09/25/12 | 09/25/12
82002 | E! Entertainment Television Style, G4 Media NBC Universal (State/One-Stop) | Los Angeles, CA | 09/25/12 | 09/24/12
82003 | RR Donnelley (Workers) | Johnson City, TN | 09/25/12 | 09/24/12
82004 | TRG Customer Solutions (Workers) | Oil City, PA | 09/25/12 | 09/19/12
82005 | Boston Scientific (Workers) | Maple Grove, MN | 09/25/12 | 09/25/12
82006 | Tellabs (State/One-Stop) | Naperville, IL | 09/26/12 | 09/25/12
82007 | Maysteel LLC (Company) | Creedmoor, NC | 09/26/12 | 09/25/12
82008 | BRP US, Inc. (State/One-Stop) | Benton, IL | 09/26/12 | 09/25/12
82009 | ITT Interconnect Solutions (State/One-Stop) | Santa Ana, CA | 09/26/12 | 09/25/12
82010 | Dell Marketing LP, Americas Transactional Group (State/One-Stop) | Round Rock, TX | 09/27/12 | 09/26/12
82011 | Winzen Film, Inc. (Workers) | Sulphur Springs, TX | 09/27/12 | 09/18/12
82012 | Oxford Collections (Workers) | Gaffney, SC | 09/27/12 | 09/26/12
82013 | Hewlett-Packard Company (State/One-Stop) | Vancouver, WA | 09/27/12 | 08/04/12
82014 | Advanstar (State/One-Stop) | Duluth, MN | 09/27/12 | 09/26/12
82015 | PCS Phosphate (Workers) | Aurora, NC | 09/27/12 | 09/26/12
82016 | Trostel, Limited (Company) | Whitewater, WI | 09/28/12 | 09/27/12

[FR Doc. 2012-25133 Filed 10-11-12; 8:45 am]

BILLING CODE 4510-FN-P